DEPARTMENT OF DEFENSE

Office of the Secretary

32 CFR Part 199

TRICARE; Civilian Health and Medical Program of the Uniformed Services (CHAMPUS); Bonus Payments in Medically Underserved Areas

AGENCY: Office of the Secretary, DoD.

ACTION: Interim final rule.

SUMMARY: This interim final rule implements a bonus payment, in addition to the amount normally paid under the allowable charge methodology, to providers in medically underserved areas. For purposes of this rule, medically underserved areas are the same as those determined by the Secretary of Health and Human Services for the Medicare program. Such bonus payments shall be equal to the bonus payments authorized by Medicare, except as necessary to recognize any unique or distinct characteristics or requirements of the CHAMPUS program, and as described in instructions issued by the Director, OCHAMPUS. Due to the urgency for such bonus payments in medically underserved areas to alleviate problems of access to healthcare coverage caused by lower payments, the interim final rule making process has been utilized. This rule promotes a reimbursement enhancement to a limited number of providers designed to increase CHAMPUS beneficiary access to care, which also supports the use of the interim final rule.

DATES: This rule is effective August 2, 2000. Written comments will be accepted until September 1, 2000.

ADDRESSES: Forward comments to Medical Benefits and Reimbursement Systems, TRICARE Management Activity, 16401 East Centretech Parkway, Aurora, CO 80011-9043.

FOR FURTHER INFORMATION CONTACT: Stan Regensberg, Medical Benefits and Reimbursement Systems, TRICARE Management Activity, telephone (303) 676-3742.

SUPPLEMENTARY INFORMATION: 32 CFR Part 199, “Civilian Health and Medical Program of the Uniformed Services (CHAMPUS),” was published in the Federal Register on July 1, 1986. This interim final rule implements a bonus payment, in addition to the amount normally paid under the allowable charge methodology, to providers in medically underserved areas. For purposes of this rule, medically underserved areas are the same as those determined by the Secretary of Health and Human Services for the Medicare program. Such bonus payments shall be equal to the bonus payments authorized by Medicare, except as necessary to recognize any unique or distinct characteristics or requirements of the CHAMPUS program, and as described in instructions issued by the Director, OCHAMPUS. If the Department of Health and Human Services acts to amend or remove the provision for bonus payments under Medicare, CHAMPUS likewise may follow Medicare in amending or removing provision for such payments. To expedite access to healthcare coverage that has been impacted by lower payments in such medically underserved areas, the interim final rule process is being utilized. Additionally, it provides a reimbursement enhancement that favors providers in underserved areas, thus alleviating healthcare access problems experienced by beneficiaries residing in such areas. Finally, because Medicare previously established a bonus payment reimbursement mechanism in these areas, our emulation of this well established mechanism complies with existing statutory mandates that CHAMPUS follow Medicare reimbursement policy wherever practicable. This rule will not unilaterally increase payments to all providers, but just those residing in these underserved areas. Due to the urgency for additional payments to ensure beneficiary access to care in these areas, it would be impracticable and contrary to the public's interest not to use the interim final rule process. To do otherwise would prevent OCHAMPUS from fulfilling its duty to beneficiaries in these underserved areas.

Regulatory Procedure

Executive Order 12866 requires certain regulatory assessments for any significant regulatory action, defined as one which would result in an annual effect on the economy of $100 million or more, or have other substantial impacts. The Regulatory Flexibility Act (RFA) requires that each Federal agency prepare, and make available for public comment, a regulatory flexibility analysis when the agency issues a regulation which would have a significant impact on a substantial number of small entities. This Interim Final Rule is not a significant regulatory action under Executive Order 12866, nor would it have a significant impact on a substantial number of small entities. The changes set forth in the interim final rule are minor revisions to the existing regulation.

The interim final rule will not impose additional information collection requirements on the public under the Paperwork Reduction Act of 1995 (44 U.S.C. 3501-3511). This rule is being issued as an interim final rule, with comment period, as an exception to our standard practice of soliciting public comments prior to issuance. The Assistant Secretary of Defense (Health Affairs) has determined that following the standard practice in this case would be impracticable, unnecessary, and contrary to the public interest. This determination is based on several factors. Most importantly, this change directly implements a payment process already used by Medicare. All public comments are invited.

List of Subjects in 32 CFR Part 199

Claims, Handicapped, Health insurance, Military personnel.

Accordingly, 32 CFR part 199 is amended as follows:

PART 199—[AMENDED]

1. The authority citation for part 199 continues to read as follows:

Authority: 5 U.S.C. 301, 10 U.S.C. Chapter 55.

2. Section 199.14 is amended by redesignating paragraphs (h)(2) and (h)(3) as (h)(3) and (h)(4) and adding a new paragraph (h)(2) to read as follows:

§ 199.14 Provider reimbursement methods.

* * * * *

(h) * * *

(2) Bonus payments in medically underserved areas. A bonus payment, in addition to the amount normally paid under the allowable charge methodology, may be made to providers in medically underserved areas. For purposes of this paragraph, medically underserved areas are the same as those determined by the Secretary of Health and Human Services for the Medicare program. Such bonus payments shall be equal to the bonus payments authorized by Medicare, except as necessary to recognize any unique or distinct characteristics or requirements of the CHAMPUS program, and as described in instructions issued by the Director, OCHAMPUS.

If the Department of Health and Human Services acts to amend or remove the provision for bonus payments under Medicare, CHAMPUS likewise may follow Medicare in amending or removing provision for such payments.

* * * * *

Dated: June 22, 2000.
L.M. Bynum,
Alternate OSD Federal Register Liaison Officer, Department of Defense.

[FR Doc. 00-16264 Filed 6-30-00; 8:45 am]

BILLING CODE 5001-10-U